NATIONAL SCIENCE FOUNDATION

Special Emphasis Panel in Physics; Notice Of Meeting

In accordance with the Federal Advisory Committee Act (Pub. L. 92-463, as amended), the National Science Foundation announces the following meetings of the Special Emphasis Panel in Physics (1208):

Date/Time: January 10-12, 2001; 8 a.m.-6 p.m.

Contact Person: C. Denise Caldwell, National Science Foundation, 4201 Wilson Boulevard, Room 1015, Arlington, VA 22230. Telephone: (703) 292-7371.

Date/Time: February 7-9, 2001; 8 a.m.-6 p.m.

Contact Person: Dr. Sidney A. Coon, Program Director for Nuclear Theory, Division of Physics, National Science Foundation, 4201 Wilson Boulevard, Room 1015, Arlington, VA 22230 (Telephone (703) 292-7382.

Date/Time: February 26-28, 2001; 8 a.m.-5 p.m.

Contact Person: Dr. Richard H. Pratt, National Science Foundation, 4201 Wilson Boulevard, Room 1015, Arlington, VA 22230. Telephone: (703) 292-8890.

Type of Meeting: Closed.

Place: National Science Foundation, 4201 Wilson Boulevard, Arlington, VA.

Purpose of Meeting: To provide advice and recommendations concerning proposals submitted to NSF for financial support.

Agenda: To review and evaluate proposals as part of the selection process for awards.

Reason for Closings: The proposals being reviewed include information of a proprietary or confidential nature, including technical information, financial data, such as salaries; and personal information concerning individuals associated with the proposals. These matter are exempt under 5 U.S.C. 552b(c), (4) and (6) of the Government in the Sunshine Act.

Dated: December 13, 2000.
Karen J. York,
Committee Management Officer.

[FR Doc. 00-32450 Filed 12-20-00; 8:45 am]

BILLING CODE 7555-01-M